DEPARTMENT OF STATE

[Public Notice: 9231; Docket No. DOS-2015-0040]

Notice of Meeting of the Cultural Property Advisory Committee

There will be a meeting of the Cultural Property Advisory Committee September 30-October 2, 2015 at the U.S. Department of State, Annex 5, 2200 C Street NW., Washington, DC. Portions of this meeting will be closed to the public, as discussed below.

During the closed portion of the meeting, the Committee will review the proposal to extend the Memorandum of Understanding Between the Government of United States of America and the Government of the Republic of Colombia Concerning the Imposition of Import Restrictions on Archaeological Materials from the Pre-Columbian Cultures and Certain Ecclesiastical Material from the Colonial Period of Colombia (“Colombia MOU”) [Docket No. DOS-2015-0040]. An open session to receive oral public comment on the proposal to extend the Colombia MOU will be held on Wednesday, September 30, 2015, beginning at 10:00 a.m. EDT.

Also, during the closed portion of the meeting, the Committee will conduct interim reviews of the Memorandum of Understanding Between the Government of the United States of America and the Government of the Republic of Guatemala Concerning the Imposition of Import Restrictions on Archaeological Material from the Pre-Columbian Cultures and Ecclesiastical Ethnological Material from the Conquest and Colonial Periods of Guatemala and of the Memorandum of Understanding Between the Government of the United States of America and the Government of the Republic of Cyprus Concerning the Imposition of Import Restrictions on Pre-Classical and Classical Archaeological Objects and Byzantine and Post-Byzantine Period Ecclesiastical and Ritual Ethnological Materials. Public comment, oral and written, will be invited at a time in the future should either MOU be proposed for extension.

The Committee's responsibilities are carried out in accordance with provisions of the Convention on Cultural Property Implementation Act (19 U.S.C. 2601 et seq.; “Act”). The text of the Act and MOUs, as well as related information, may be found at http://culturalheritage.state.gov. If you wish to attend the open session on September 30, 2015, you should notify the Cultural Heritage Center of the Department of State at (202) 632-6301 no later than 5:00 p.m. (EDT) September 11, 2015, to arrange for admission. Seating is limited. When calling, please specify if you need reasonable accommodation. The open session will be held at 2200 C St. NW., Edward R. Murrow Conference Room, Washington, DC 20037. Please plan to arrive 30 minutes before the beginning of the open session.

If you wish to make an oral presentation at the open session, you must request to be scheduled by the above-mentioned date and time, and you must submit written comments, ensuring that they are received no later than September 11 at 11:59 p.m. (EDT), via the eRulemaking Portal (see below), to allow time for distribution to committee members prior to the meeting. Oral comments will be limited to five (5) minutes to allow time for questions from members of the Committee. All oral and written comments must relate specifically to the determinations under 19 U.S.C. 2602, pursuant to which the Committee must make findings.

If you do not wish to make oral comment but still wish to make your views known, you may send written comments for the Committee to consider. Your comments should relate specifically to the determinations under 19 U.S.C. 2602. Submit all written materials electronically through the eRulemaking Portal (see below), ensuring that they are received no later than September 11, 2015 at 11:59 p.m. (EDT). Our adoption of this procedure facilitates public participation; implements section 206 of the E-Government Act of 2002, Public Law 107-347, 116 Stat. 2915; and supports the Department of State's “Greening Diplomacy” initiative that aims to reduce the State Department's environmental footprint and reduce costs.

Please submit comments only once using one of these methods:

• Electronic Delivery. To submit comments electronically, go to the Federal eRulemaking Portal (http://www.regulations.gov), enter the Docket No. DOS-2015-0040, and follow the prompts to submit a comment. Comments submitted in electronic form are not private. They will be posted on the site http://www.regulations.gov. Because the comments cannot be edited to remove any identifying or contact information, the Department of State cautions against including any information in an electronic submission that one does not want publicly disclosed (including trade secrets and commercial or financial information that is privileged or confidential pursuant to 19 U.S.C. 2605(i)(1)).

• Regular Mail or Delivery. If you wish to submit information that you believe to be privileged or confidential pursuant to 19 U.S.C. 2605(i)(1), you may do so via regular mail, commercial delivery, or personal hand delivery to the following address: Cultural Heritage Center (ECA/P/C), SA-5, Floor C2, U.S. Department of State, Washington, DC 20522-05C2. Only comments that you believe to be privileged or confidential will be accepted via those methods. Comments must be received by September 11, 2015.

Comments submitted by fax or email are not accepted. All comments submitted electronically must be submitted via the eRulemaking Portal only. All comments submitted electronically will be viewable by the public, so do not include any information that you consider privileged or confidential.

The Department of State requests that any party soliciting or aggregating comments received from other persons for submission to the Department of State inform those persons that the Department of State will not edit their comments to remove any identifying or contact information, and that they therefore should not include any information in their comments that they do not want publicly disclosed.

As noted above, portions of the meeting will be closed pursuant to 5 U.S.C. 552b(c)(9)(B) and 19 U.S.C. 2605(h), the latter of which stipulates that “The provisions of the Federal Advisory Committee Act shall apply to the Cultural Property Advisory Committee except that the requirements of subsections (a) and (b) of sections 10 and 11 of such Act (relating to open meetings, public notice, public participation, and public availability of documents) shall not apply to the Committee, whenever and to the extent it is determined by the President or his designee that the disclosure of matters involved in the Committee's proceedings would compromise the government's negotiating objectives or bargaining positions on the negotiations of any agreement authorized by this chapter”. Pursuant to law, Executive Order, and Delegation of Authority, I have made such a determination.

Personal information regarding attendees is requested pursuant to Public Law 99-399 (Omnibus Diplomatic Security and Antiterrorism Act of 1986), as amended; Pub. L. 107-56 (USA PATRIOT Act); and E.O. 13356. The purpose of the collection is to validate the identity of individuals who enter Department facilities. The data will be entered into the Visitor Access Control System (VACS-D) database. Please see the Security Records System of Records Notice (State-36) at http://www.state.gov/documents/organization/103419.pdf for additional information. For further information, contact Isabella Strohmeyer, Program Coordinator, at 202-632-6198.

Dated: August 12, 2015.
Evan Ryan,
Assistant Secretary, Bureau of Educational and Cultural Affairs, U.S. Department of State.

[FR Doc. 2015-21194 Filed 8-25-15; 8:45 am]

BILLING CODE 4710-05-P